DEPARTMENT OF ENERGY

Federal Energy Regulatory Commission

[Project No. 12779-005]

Pacific Gas and Electric Company; Notice of Intent To File License Application, Filing of Draft Application, Request for Waivers of Integrated Licensing Process Regulations Necessary for Expedited Processing of a Hydrokinetic Pilot Project License Application, and Soliciting Comments

March 3, 2010.

a. Type of Filing: Notice of Intent to File a License Application for an Original License for a Hydrokinetic Pilot Project.

b. Project No.: 12779-005.

c. Date Filed: March 1, 2010.

d. Submitted By: Pacific Gas and Electric Company.

e. Name of Project: Humboldt WaveConnect Pilot Project.

f. Location: The project would be located in the Pacific Ocean west of the City of Eureka in Humboldt County, California within California State waters.

g. Filed Pursuant to: 18 CFR 5.3 of the Commission's regulations.

h. Applicant Contact: Mr. Brian McDonald, Director—Renewable Resource Development, Pacific Gas and Electric Company, 77 Beale Street, MC B5Q-542, San Francisco, CA 94105-1814, telephone: (415)-973-2005.

i. FERC Contact: Kenneth Hogan (202) 502-8434.

j. Pacific Gas and Electric Company (PG&E) has filed with the Commission: (1) A notice of intent (NOI) to file an application for an original license for a hydrokinetic pilot project and a draft license application with monitoring plans; (2) a request for waivers of the integrated licensing process regulations necessary for expedited processing of a hydrokinetic pilot project license application; (3) a proposed process plan and schedule; (4) a request to be designated as the non-Federal representative for section 7 of the Endangered Species Act consultation; and (5) a request to be designated as the non-Federal representative for section 106 consultation under the National Historic Preservation Act (collectively the pre-filing materials).

k. With this notice, we are soliciting comments on the pre-filing materials listed in paragraph j above, including the draft license application and monitoring plans. All comments should be sent to the address above in paragraph h. In addition, all comments (original and eight copies) must be filed with the Commission at the following address: Kimberly D. Bose, Secretary, Federal Energy Regulatory Commission, 888 First Street, NE., Washington, DC 20426. All filings with the Commission must include on the first page, the project name (Humboldt WaveConnect Pilot Project) and number (P-12779-005), and bear the heading “Comments on the proposed Humboldt WaveConnect Pilot Project.” Any individual or entity interested in submitting comments on the pre-filing materials must do so by April 30, 2009.

Comments may be filed electronically via the Internet in lieu of paper. The Commission strongly encourages electronic filings. See 18 CFR 385.2001(a)(1)(iii) and the instructions on the Commission's Web site (http://www.ferc.gov) under the “e-filing” link.

l. With this notice, we are approving PG&E's request to be designated as the non-Federal representative for section 7 of the Endangered Species Act (ESA) and its request to initiate consultation under section 106 of the National Historic Preservation Act; and recommending that it begin informal consultation with: (a) The U.S. Fish and Wildlife Service and the National Marine Fisheries Service as required by section 7 of ESA; and (b) the California State Historic Preservation Officer, as required by section 106, National Historical Preservation Act, and the implementing regulations of the Advisory Council on Historic Preservation at 36 CFR 800.2.

m. This notice does not constitute the Commission's approval of PG&E's request to use the Pilot Project Licensing Procedures. Upon its review of the project's overall characteristics relative to the pilot project criteria, the draft license application contents, any comments filed, and PG&E's response to any additional information requests by the Commission, the Commission will determine whether there is adequate information to conclude the pre-filing process and approve the use the Pilot Project Licensing Procedures.

n. The proposed Humboldt WaveConnect Pilot Project would consist of: (1) Wave energy conversion (WEC) buoys including multi-point catenary moorings and anchors; (2) marker buoys, navigation lights, and environmental monitoring instruments; (3) five 9-mile-long submarine electrical cables extending underground onshore to; (4) land-based power conditioning equipment; (5) a 2,025-feet-long 12kV aboveground transmission line; and (6) appurtenant facilities. The estimated annual generation of the proposed project would be 43,800 megawatt-hours.

o. A copy of the draft license application and all pre-filing materials are available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, of for TTY, (202) 502-8659.

p. Pre-filing process schedule. The pre-filing process will be conducted pursuant to the following tentative schedule. Revisions to the schedule below may be made based on staff's review of the draft application and any comments received.

Milestone | Date
Comments on pre-filing materials due | April 30, 2010.
Issuance of Notice of Site Visit/Meetings | May 7, 2010.
Site Visit & Public Meetings/Technical Conference | June 8-9, 2010.

q. Register online at http://www.ferc.gov/docs-filing/esubscription.asp to be notified via e-mail of new filing and issuances related to this or other pending projects. For assistance, contact FERC Online Support.

Kimberly D. Bose,
Secretary.

[FR Doc. 2010-5044 Filed 3-9-10; 8:45 am]

BILLING CODE 6717-01-P